DEPARTMENT OF TRANSPORTATION

Federal Railroad Administration

[Docket Number FRA-2016-0056]

Petition for Special Approval of Alternate Standard

In accordance with part 238 of Title 49 Code of Federal Regulations (CFR), this provides the public notice that by a document dated May 4, 2016, the Maryland Transit Administration (MTA) has requested a Special Approval of an alternate standard for 49 CFR 238.311(a), Single car test, as prescribed in 49 CFR 238.21(b), Special approval procedure. The Federal Railroad Administration (FRA) assigned the request Docket Number FRA-2016-0056.

MTA requests consideration for Special Approval of the submitted alternate standard identified as “MARC Mechanical Department Single Car Air Brake Test—MARC IV Cab Standard Maintenance Instruction (SMI) M4-06002” for single car testing of the MARC IV cab cars. MTA states that the proposed alternative maintenance standard provides an equivalent level of safety as the standard contained in American Public Transportation Association (APTA) PR-MS-005-98 Rev. 2.1, which is incorporated by reference at 49 CFR 238.311, Single car test. MARC IV cab cars are equipped with New York Air Brake CCBII electronic locomotive brake equipment, and cannot be qualified for trailer car use with an unmodified version of the referenced APTA standard. MTA considers that the information contained within its petition supports granting the use of an alternate standard to the APTA PR-M-S-005-98 standard for single car testing of the MARC IV cab cars as requested, and seeks FRA concurrence with MTA's conclusions drawn regarding the equivalency of air brake system validation identified in APTA PR-M-S-005-98 with implementation of the procedure, M4-06002.

Copies of these documents and the petition, as well as any written communications concerning the petition, are available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA in writing before the end of the comment period, and specify the basis for their request. All communications concerning these proceedings should identify the appropriate Docket Number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by September 9, 2016 will be considered by FRA before final action is taken. Comments received after that date will be considered as far as practicable.

Anyone is able to search the electronic form of any written communications and comments received into any of FRA's dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC, on July 28, 2016.
Robert C. Lauby,
Associate Administrator for Railroad Safety, Chief Safety Officer.

[FR Doc. 2016-18954 Filed 8-9-16; 8:45 am]

BILLING CODE 4910-06-P